NUCLEAR REGULATORY COMMISSION

[NRC-2015-0231]

Clarification of Licensee Actions in Support of Enforcement Guidance for Tornado-Generated Missiles

AGENCY: Nuclear Regulatory Commission.

ACTION: Draft interim staff guidance; request for comment.

SUMMARY: The U.S. Nuclear Regulatory Commission (NRC) is issuing for public comment its draft Interim Staff Guidance (ISG) DSS-ISG-2015-XX, “Clarification of Licensee Actions in Receipt of Enforcement Discretion per Enforcement Guidance Memorandum (EGM) 15-002, ‘Enforcement Discretion for Tornado-generated Missile Protection Noncompliance.’ ” This draft ISG will provide clarifying guidance for NRC staff understanding of expectations for consistent oversight associated with implementing enforcement discretion for tornado missile protection noncompliance per EGM 15-002. This guidance will allow consistent enforcement and regulation of licensees that implement corrective actions outlined in EGM 15-002.

DATES: Submit comments by December 2, 2015. Comments received after this date will be considered if it is practical to do so, but the NRC is able to ensure consideration only for comments received on or before this date.

ADDRESSES: You may submit comments by any of the following methods (unless this document describes a different method for submitting comments on a specific subject):

• Federal Rulemaking Web Site: Go to http://www.regulations.gov and search for Docket ID NRC-2015-0231. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Todd Keene, Office of Nuclear Reactor Regulation, U.S. Nuclear Regulatory Commission, Washington, DC 20555-0001; telephone: 301-415-1994, email: Todd.Keene@nrc.gov.

SUPPLEMENTARY INFORMATION:

I. Obtaining Information and Submitting Comments

A. Obtaining Information

Please refer to Docket ID NRC-2015-0231 when contacting the NRC about the availability of information for this action. You may obtain publicly-available information related to this action by any of the following methods:

• Federal Rulemaking Web Site: Go to http://www.regulations.gov and search for Docket ID NRC-2015-0231.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section. The draft ISG is available in ADAMS under Accession No. ML15259A029.

• NRC's PDR: You may examine and purchase copies of public documents at the NRC's PDR, Room O1-F21, One White Flint North, 11555 Rockville Pike, Rockville, Maryland 20852.

B. Submitting Comments

Please include Docket ID NRC-2015-0231 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

Following the issuance of EGM 15-002 (ADAMS Accession No, ML15111A269), the NRC staff received internal and external stakeholder comments requesting clarification in complying with NRC expectations for implementing enforcement discretion in accordance with the EGM 15-002, specifically the implementation of compensatory measures and guidance on addressing operability status of equipment once the EGM is implemented. Therefore, the NRC staff has developed draft ISG DSS-ISG-2015-XX, “Clarification of Licensee Actions in Receipt of Enforcement Discretion per Enforcement Guidance Memorandum (EGM) 15-002, `Enforcement Discretion for Tornado-generated Missile Protection Noncompliance,' ” to provide clarification concerning the implementation of EGM 15-002.

The NRC is requesting public comments on the draft ISG to ensure that it provides sufficiently clear guidance to the NRC staff concerning expectations for implementation of EGM 15-002.

Dated at Rockville, Maryland, this 27th day of October 2015.
For the Nuclear Regulatory Commission.
Alex Garmoe,
Acting Chief, Generic Communications Branch, Division of Policy and Rulemaking, Office of Nuclear Reactor Regulation.

[FR Doc. 2015-27857 Filed 10-30-15; 8:45 am]

BILLING CODE 7590-01-P